DEPARTMENT OF THE INTERIOR

Bureau of Land Management

[LLES956000-L14200000-BJ0000-LXSITRST0000]

Eastern States: Filing of Plat of Survey

AGENCY: Bureau of Land Management, Interior.

ACTION: Notice of filing of plats of survey; Minnesota and Wisconsin.

SUMMARY: The Bureau of Land Management (BLM) will file the plat of survey of the lands described below in the BLM-Eastern States office in Springfield, Virginia, 30 calendar days from the date of publication in the Federal Register.

FOR FURTHER INFORMATION CONTACT: Bureau of Land Management-Eastern States, 7450 Boston Boulevard, Springfield, Virginia 22153. Attn: Cadastral Survey.

SUPPLEMENTARY INFORMATION: These surveys were requested by the Bureau of Indian Affairs.

The lands surveyed are:

Fifth Principal Meridian, Minnesota

T. 143 N., R. 41 W.

The plat of survey represents the dependent resurvey of a portion of the west boundary and a portion of the subdivisional lines and the dependent resurvey and survey of the subdivision of section 30, of Township 143 North, Range 41 West, of the Fifth Principal Meridian, in the State of Minnesota, and was accepted October 14, 2009.

Fourth Principal Meridian, Minnesota

T. 48 N., R. 17 W.

The plat of survey represents the dependent resurvey of a portion of the north boundary and the subdivisional lines and the survey of the subdivision of section 4, Township 48 North, Range 17 West, of the Fourth Principal Meridian, in the State of Minnesota, and was accepted December 23, 2009.

Fourth Principal Meridian, Wisconsin

T. 47 N., R 2 W.

The plat of survey represents the dependent resurvey of portions of the south, west, and east boundaries, a portion of the subdivisional lines, and the east and west centerline of sections 23, 24, 28, and 31, of Township 27 North, Range 2 West, of the Fourth Principal Meridian, in the State of Wisconsin, and was accepted December 16, 2009.

We will place copies of the plats we described in the open files. They will be available to the public as a matter of information.

If BLM receives a protest against a survey, as shown on the plat, prior to the date of the official filing, we will stay the filing pending our consideration of the protest.

We will not officially file a plat until the day after we have accepted or dismissed all protests and they have become final, including decisions on appeals.

Dated: January 19, 2010.
Dominica Van Koten,
Chief Cadastral Surveyor.

[FR Doc. 2010-1576 Filed 1-26-10; 8:45 am]

BILLING CODE 4310-GJ-P